TENNESSEE VALLEY AUTHORITY

Public Hearing to Hear Presentations From Certain Distributors of TVA Power and Other Invited Speakers on the Subject of Transmission Access

AGENCY: Tennessee Valley Authority.

ACTION: Notice of public hearing.

SUMMARY: The TVA Board of Directors will hold a public hearing on the subject of transmission access to hear presentations from distributors of TVA power and other invited speakers.

DATES: Thursday, May 18, 2006, 10 a.m. CDT.

ADDRESSES: Hopkinsville-Christian County Conference and Convention Center, Hopkinsville, Kentucky. Anyone who wishes to provide written comments for inclusion in the Hearing record may send their comments by May 25, 2006, to: TVA Board of Directors, Transmission Access Hearing Comments, 400 West Summit Hill Drive, Knoxville, Tennessee 37902.

FOR FURTHER INFORMATION CONTACT: Please call TVA Media Relations at (865) 632-6000, Knoxville, Tennessee. Information is also available at TVA's Washington Office (202) 898-2999. People who plan to attend the meeting and have special needs should call (865) 632-6000.

Public Law 108-447, div. C, tit. VI, 118 Stat. 2965.

Dated: May 11, 2006.
Maureen H. Dunn,
Executive Vice President and General Counsel.

[FR Doc. 06-4597 Filed 5-16-06; 8:45 am]

BILLING CODE 8120-08-P